DEPARTMENT OF AGRICULTURE

Natural Resources Conservation Service

West Tarkio Creek Watershed, Montgomery, Fremont and Page Counties, Iowa and Atchison County, MO

AGENCY: Natural Resources Conservation Service, USDA.

ACTION: Notice of Availability of Record of Decision.

SUMMARY: Al Garner, responsible Federal official for projects administered under the provisions of Public Law 83-566, 16 U.S.C. 1001-1008, and the Agriculture, Rural Development, Food and Drug Administration, and Related Agencies Appropriations Act, 2006, PL-109-97, in the State of Iowa, is hereby providing notification that a record of decision to proceed with the installation of West Tarkio Creek Watershed project is available. Copies of this record of decision may be obtained from the Iowa NRCS Web site http://www.ia.nrcs.usda.gov/, or from Al Garner at the address shown below.

FOR FURTHER INFORMATION CONTACT: Al Garner, Acting State Conservationist, Natural Resources Conservation Service, 693 Federal Building, 210 Walnut Street, Iowa, 50309, telephone 515-284-6655.

Dated: April 30, 2008.
Al Garner,
Acting State Conservationist.

(This activity is listed in the Catalog of Federal Domestic Assistance under No. 10.904, Watershed Protection and Flood Prevention, and is subject to the provisions of Executive Order 12372, which requires intergovernmental consultation with State and Local officials.)

[FR Doc. E8-10699 Filed 5-13-08; 8:45 am]

BILLING CODE 3410-16-P